DEPARTMENT OF THE INTERIOR

National Park Service

[N6874; NPS-WASO-NAGPRA-NPS0041864; PPWOCRADN0-PCU00RP14.R50000]

Notice of Intended Repatriation: Kansas State Historical Society, Topeka, KS

AGENCY: National Park Service, Interior.

ACTION: Notice.

SUMMARY: In accordance with the Native American Graves Protection and Repatriation Act (NAGPRA), the Kansas State Historical Society (KSHS) intends to repatriate certain cultural items that meet the definition of sacred objects and that have a cultural affiliation with the Indian Tribes or Native Hawaiian organizations in this notice.

DATES: Repatriation of the cultural items in this notice may occur on or after February 17, 2026.

ADDRESSES: Send additional, written requests for repatriation of the cultural items in this notice to Dr. Nicole Klarmann, Kansas State Historical Society, 6425 SW 6th Avenue, Topeka, KS 66615-1099, email kshs.nagpra@ks.gov.

SUPPLEMENTARY INFORMATION: This notice is published as part of the National Park Service's administrative responsibilities under NAGPRA. The determinations in this notice are the sole responsibility of the KSHS and additional information on the determinations in this notice, including the results of consultation, can be found in the summary or related records. The National Park Service is not responsible for the determinations in this notice.

Abstract of Information Available

A total of eight cultural items have been requested for repatriation. The eight sacred objects are a beaded pouch, bags, and jar, a whistle, leg cuffs, hair pipes, and an eagle feather. The beaded pouch (1962.34.12) and the beaded jar (1962.34.52) were transferred from the KSHS museum collections to the archeological collections in 1962. No other provenience information is available. The beaded saddle bag (1973.120.10) was donated to KSHS in 1973 by a resident from Clyde, KS who was asked to clean out an elderly person's garage and found many Native American items. The buckskin bag with quillwork (1934.9.18) was donated to KSHS in 1934 with no other provenience information. The eagle bone whistle (1990.G.1) was purchased at an antique shop in Colorado in the 1960s and donated to KSHS in 1990. Duso cement was used to re-glue two sections of the whistle. The quilled leg cuffs (1959.66.3 A-B) were donated to KSHS in 1959 with no other provenience information. The bone and brass hair pipes (1956.32.26) were purchased by KSHS from the Logan Museum at Beloit College in Wisconsin in 1956. The eagle feather (1976.52.01A) was donated by a former KSHS museum director in 1976 and described as part of a Siouan affiliated hairpiece from circa 1890. Unless noted here, we have no known knowledge of hazardous substances being used to treat any of these cultural items.

Determinations

The KSHS has determined that:

• The eight sacred objects described in this notice are specific ceremonial objects needed by a traditional Native American religious leader for present-day adherents to practice traditional Native American religion, according to the Native American traditional knowledge of a lineal descendant, Indian Tribe, or Native Hawaiian organization.

• There is a connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 17, 2026. If competing requests for repatriation are received, the KSHS must determine the most appropriate requestor prior to repatriation. Requests for joint repatriation of the cultural items are considered a single request and not competing requests. The KSHS is responsible for sending a copy of this notice to the Indian Tribes and Native Hawaiian organizations identified in this notice and to any other consulting parties.

Authority: Native American Graves Protection and Repatriation Act, 25 U.S.C. 3004 and the implementing regulations, 43 CFR 10.9.

Dated: January 9, 2026.
Melanie O'Brien,
Manager, National NAGPRA Program.

[FR Doc. 2026-00865 Filed 1-15-26; 8:45 am]

BILLING CODE 4312-52-P